DEPARTMENT OF JUSTICE

Antitrust Division

Notice Pursuant to the National Cooperative Research and Production Act of 1993—Robotics Technology Consortium, Inc.

Notice is hereby given that, on November 22, 2011, pursuant to Section 6(a) of the National Cooperative Research and Production Act of 1993, 15 U.S.C. 4301 et seq. (“the Act”), Robotics Technology Consortium, Inc. (“RTC”) has filed written notifications simultaneously with the Attorney General and the Federal Trade Commission disclosing changes in its membership. The notifications were filed for the purpose of extending the Act's provisions limiting the recovery of antitrust plaintiffs to actual damages under specified circumstances. Specifically, Action Engineering, LLC, Lakewood, CO; AutonomouStuff, LLC, Metamora, IL; Bolduc Technology Group, LLC, Augusta, ME; KT-Tech, Inc., Bowie, MD; Mechatron Inc., Somerville, MA; Northport Systems LLC, Toronto, Ontario, CANADA; and UrsaNav, Inc., Chesapeake, VA, have been added as parties to this venture.

Also, 3M Company, St. Paul, MN; Advanced Machining, Inc., Longmont, CO; Aerius Photonics, LLC, Ventura, CA; Delta Information Systems, Inc., Horsham, PA; DRS Sensors & Targeting Systems, Inc., Cypress, CA; EMSolutions, Inc., Arlington, VA; Jaybridge Robotics, Cambridge, MA; Klett Consulting Group, Inc., Virginia Beach, VA; and Next Wave Systems, LLC, New Pekin, IN, have withdrawn from this venture.

In addition, Mesa Robotics Inc. has changed its name to Mesa Technologies, Inc., Madison, AL.

No other changes have been made in either the membership or planned activity of the group research project. Membership in this group research project remains open, and RTC intends to file additional written notifications disclosing all changes in membership.

On October 15, 2009, RTC filed its original notification pursuant to Section 6(a) of the Act. The Department of Justice published a notice in the Federal Register pursuant to Section 6(b) of the Act on November 30, 2009 (74 FR 62599).

The last notification was filed with the Department on July 27, 2011. A notice was published in the Federal Register pursuant to Section 6(b) of the Act on September 22, 2011 (76 FR 59160).

Patricia A. Brink,
Director of Civil Enforcement, Antitrust Division.

[FR Doc. 2011-32703 Filed 12-20-11; 8:45 am]

BILLING CODE P